DEPARTMENT OF AGRICULTURE

Forest Service

Mill Creek Timber Sales and Related Activities, Rogue River National Forest, Jackson County, OR

AGENCY: Forest Service, USDA.

ACTION: Revised notice of intent to prepare an environmental impact statement.

SUMMARY: On December 14, 1999, a notice of intent for the Mill Creek Timber Sales and Related Activities was published in the Federal Register (64 FR 69691). Further project design, analysis, monitoring of previous actions and scoping have identified changes to the proposed action that will subsequently change the responsible official. Analysis has identified the need to adjust the standards and guidelines for soil in the 1990 Land and Resource Management Plan (Forest Plan) for the Rogue River National Forest. As part of the decision for the Mill Creek Timber Sales and Related Activities, an amendment to the Forest Plan will be made to make the Forest Plan consistent with regional policy, standards and guidelines related to soil quality. An amendment to the Forest Plan is a Forest Supervisor's decision. Therefore the responsible official for this EIS changes from the District Ranger to the Forest Supervisor. In addition, further analysis and scoping have allowed clarification of the preliminary issues and the development of alternatives to the proposed action. The following significant issues have emerged. Soil: activities associated with the proposed action (harvesting and activity fuels treatment) may cause direct or indirect impacts to soils by surface erosion, compaction, over-land flow, displacement, puddling, and a loss of site productivity (organic matter, nitrogen, water holding capacity, etc.). Activities in combination with past, other present and reasonably future actions may result in adverse cumulative effects to soils (especially considering existing skid trails per activity area and road density) and known detrimental soil areas. Water quality: activities may affect water quality via erosion, sediment production, and in combination with past, other present and reasonably foreseeable future actions may result in adverse cumulative effects. Vegetation condition and forest health: activities may affect the current mix of seral stages and the long-term health of forested stands; activities may also affect the current conditions associated with root disease, insect populations (pine and Douglas-fir beetles), blister rust, and Douglas-fir dwarf mistletoe, that is affecting the current and long-term health of forested stands. Wildlife: activities may affect big game (deer and elk) wildlife by affected hiding and thermal cover, and forage ratios (winter range); activities may affect big game (deer and elk) wildlife travel corridors and migration routes and road densities. Activities may affect terrestrial wildlife habitat associated with late-successional or old-growth forests; this could affect the degree of forest fragmentation and connectivity. Human social and economic value: activities may affect portions of certain (non-inventoried) “roadless” areas that are currently unroaded; some people may value them for their late-succesional (or spirtual) character. Activities may affect late seral or old-growth vegetation characteristics; some people believe such conditions should be preserved on public lands. Activities associated with the proposed action or its alternatives may generate various economic benefits/costs or overall present net values, depending on design.

The range of alternatives being considered includes a “no-action” alternative; the proposed action; an alternative designed to lessen adverse impacts to current soil conditions; an alternative that lessens the adverse impacts to big game cover, migration routes and connectivity of late successional stand types; and an alternative that would defer action in areas currently exhibiting unentered character, would defer building additional roads for harvest access, and would not commercially harvest large trees.

DATES: Comments concerning the scope of the revised analysis should be received by April 14, 2000.

FOR FURTHER INFORMATION CONTACT: Questions should be directed to Joel King, District Ranger, Prospect Ranger District, at 47201 Highway 62, Prospect, Oregon, 97536, phone 541-560-3400, e-mail jking/r6pnw_rogueriver@fs.fed.us.

Dated: March 10, 2000.
Gregory A. Clevenger,
Acting Forest Supervisor.

[FR Doc. 00-7303 Filed 3-23-00; 8:45 am]

BILLING CODE 3410-11-M